NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Room 755, National Foundation, 4201 Wilson Boulevard, Arlington, VA 22230.

SUPPLEMENTARY INFORMATION: On July 7, 2004, the National Science Foundation published a notice in the Federal Register of permit applications received. Permits were issued on August 10, 2004 to: Mahlon C. Kennicutt, II, Permit No. 2005-008; John C. Priscu, Permit No. 2005-009; and W. Berry Lyons, Permit No. 2005-010.

Nadene G. Kennedy,
Permit Officer.

[FR Doc. 04-18661 Filed 8-13-04; 8:45 am]

BILLING CODE 7555-01-M